DEPARTMENT OF THE INTERIOR

Bureau of Land Management

[LLNV952000 L14200000.BJ0000 241A; 14-08807; TAS: 14X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated in the SUPPLEMENTARY INFORMATION section.

FOR FURTHER INFORMATION CONTACT: David D. Morlan, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Nevada State Office, Reno, Nevada on August 30, 2013: The plat, in 1 sheet, representing the dependent resurvey of a portion of the Boulder Canyon Project Federal Reservation Boundary, a portion of the east boundary and a portion of the subdivisional lines and the subdivision of section 25, Township 23 South, Range 63 1/2 East, of the Mount Diablo Meridian, Nevada, under Group No. 921, was accepted August 28, 2013. This survey was executed to meet certain administrative needs of the BLM.

2. The Plat of Survey of the following described lands was officially filed at the Bureau of Land Management (BLM) Nevada State Office, Reno, Nevada on September 3, 2013: The plat, in 5 sheets, representing the dependent resurvey of the south boundary, portions of the east, west and north boundaries and a portion of the subdivisional lines and the subdivision of certain sections, Township 37 North, Range 19 East, of the Mount Diablo Meridian, Nevada, under Group No. 784, was accepted August 28, 2013. This survey was executed to meet certain administrative needs of the BLM.

3. The Plat of Survey of the following described lands will be officially filed at the BLM Nevada State Office on the first business day after thirty (30) days from the publication of this notice: This plat, in 1 sheet, representing the dependent resurvey of a portion of the subdivisional lines, and the survey of a portion of the subdivisional lines, Township 26 North, Range 48 East, of the Mount Diablo Meridian, Nevada, under Group No. 895, was accepted November 5, 2013. This survey was executed to meet certain administrative needs of the BLM and to locate specific Federal interest lands for Barrick Gold Exploration, Inc.

4. The Plat of Survey of the following described lands will be officially filed at the BLM Nevada State Office on the first business day after thirty (30) days from the publication of this notice: This plat, in 5 sheets, representing the dependent resurvey of portions of the north boundary of Township 26 North, Range 48 East; and the dependent resurvey of a portion of the west boundary, a portion of the subdivisional lines, and portions of certain mineral surveys, and the survey of a portion of the subdivisional lines, Township 27 North, Range 48 East, of the Mount Diablo Meridian, Nevada, under Group No. 895, was accepted November 5, 2013. This survey was executed to meet certain administrative needs of the BLM and to locate specific Federal interest lands for Barrick Gold Exploration, Inc.

Subject to valid existing rights, the provisions of existing withdrawals and classifications, the requirement of applicable laws, and other segregations of record, these lands are open to application, petition and disposal, including application under the mineral leasing laws. All such valid applications received on or before the official filing of the Plat of Survey described in Plat of Survey #3 and #4, shall be considered as simultaneously filed at that time. Applications received thereafter shall be considered in order of filing.

The surveys listed are now the basic record for describing the lands for all authorized purposes. These surveys have been placed in the open files in the BLM Nevada State Office and are available to the public as a matter of information. Copies of the surveys and related field notes may be furnished to the public upon payment of the appropriate fees.

Dated: November 14, 2013.
David D. Morlan,
Chief Cadastral Surveyor, Nevada.

[FR Doc. 2013-27821 Filed 11-19-13; 8:45 am]

BILLING CODE 4310-HC-P